DEPARTMENT OF TRANSPORTATION

Federal Railroad Administration

Proposed Agency Information Collection Activities; Comment Request

AGENCY: Federal Railroad Administration, DOT.

ACTION: Notice and request for comments.

SUMMARY: In compliance with the Paperwork Reduction Act of 1995 (44 U.S.C. 3501 et seq.), this notice announces that the Information Collection Requirement (ICR) abstracted below has been forwarded to the Office of Management and Budget (OMB) for review and comment. The ICR describes the nature of the information collection and its expected burden. The Federal Register notice with a 60-day comment period soliciting comments on the following collections of information was published on February 4, 2000 (65 FR 5721).

DATES: Comments must be submitted on or before May 31, 2000.

FOR FURTHER INFORMATION CONTACT: Mr. Robert Brogan, Office of Planning and Evaluation Division, RRS-21, Federal Railroad Administration, 1120 Vermont Ave., NW., Mail Stop 17, Washington, DC 20590 (telephone: (202) 493-6292), or Dian Deal, Office of Information Technology and Productivity Improvement, RAD-20, Federal Railroad Administration, 1120 Vermont Ave., NW., Mail Stop 35, Washington, DC 20590 (telephone: (202) 493-6133). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On February 4, 2000, FRA published a 60-day notice in the Federal Register soliciting comment on ICRs that the agency was seeking OMB approval. 65 FR 4297. FRA received two comments after issuing this notice. The first comment was from the Association of American Railroads (AAR). AAR primarily took issue with FRA's time estimate for each information collection activity required by Part 225. Additionally, it submitted numbers for several of the reports required by this information collection. AAR surveyed two Class I railroads—one a major freight railroad and the other a major passenger railroad—to glean the average time estimates and the estimated number of reports provided in the table included in its letter. FRA carefully considered all AAR's comments.

The first comment pertained to the Railroad Injury and Illness Summary (FRA Form 6180.55). AAR shows average time estimates of 75 minutes and 60 minutes for this form while FRA shows an average time estimate of 45 minutes. FRA's average estimate includes both large and small railroads. FRA believes its estimate is more representative than ones supplied by the AAR. Accordingly, FRA has kept its original estimate. The next comment pertained to the Railroad Injury and Illness Summary (Continuation Sheet) (FRA Form 6180.55A). AAR shows average time estimates of 60 minutes and 45 minutes for this form. FRA shows an average time estimate of 30 minutes. On closer inspection, FRA believes 45 minutes is a more accurate time estimate, and has accordingly replaced its number with the one supplied by AAR for this requirement. The next comment pertained to the Rail Equipment Accident/Incident Report (FRA Form 6180.54). AAR shows time estimates of 6 hours and 5.8-7 hours for this form while FRA shows 3 hours. FRA agrees that some of the accidents reported on this form do take six hours to complete. However, three quarters of most accidents occur in train yards and/or at slow speeds. Most of these reports can be completed in 90 minutes or less. The AAR has chosen a more serious accident for its calculations. FRA believes three hours is an accurate estimate for both large and small railroads. Accordingly, FRA retains three hours for this requirement. AAR also shows 671 forms and 50 forms as the number of responses for this requirement based on the two railroads surveyed. FRA estimate of 3,000 forms includes both large and small railroads, and comes from the agency's most current data. Accordingly, FRA adheres to its original number for this requirement. The next comment pertained to the Rail-Highway Grade Crossing Accident/Incident Report (FRA Form 6180.57). AAR shows average time estimates of 4 hours and 3 hours for this form while FRA shows 3 hours. AAR and FRA essentially agree. Accordingly, FRA retains its original estimate of three hours for this requirement. The next comment pertained to the Annual Railroad Report of Employee Hours and Casualties, By State (FRA Form 6180.56). AAR shows average time estimates of 4 hours and 3 hours for this form while FRA shows 3 hours. Here also AAR and FRA essentially agree. Accordingly, FRA retains its original estimate for this requirement. The next comment pertained to Telephone Reports of Certain Accidents/Incidents. AAR shows average time estimates of 30 minutes and 15 minutes while FRA shows 15 minutes. Once again, AAR and FRA essentially agree. Accordingly, FRA adheres to its original estimate for this requirement. The next comment pertained to Railroad Employee Injury and/or Illness Record (FRA Form 6180.98). AAR shows estimates of 30 minutes. FRA is in agreement with AAR and retains 30 minutes for its estimate. The next comment pertained to Copies of Forms (FRA Form 6180.98 or alternative form) to Employees. AAR shows estimates of 30 minutes while FRA shows 2 minutes as its estimate. FRA still believes it takes less than two minutes to make a copy of a two page report. FRA is hard pressed to understand the thirty minute figure stated by the AAR. Accordingly, FRA retains its original estimate of 2 minutes for this requirement. The next comment pertained to Posting of Monthly Summary. AAR shows average time estimates of 60 minutes while FRA shows 16 minutes. Since this function is now done by computer, FRA believes 60 minutes is much too high for the average estimate. Accordingly, FRA retains its original estimate for this requirement. The next comment pertained to Doubtful Cases; Alcohol or Drug Involvement. AAR shows average time estimates of 60 minutes and 30 minutes while FRA shows 15 minutes. On closer inspection, FRA believes thirty minutes is a more accurate number for this requirement. Accordingly, FRA adopts the AAR estimate. AAR also shows 50 reports as the number of responses for this requirement. FRA's estimate shows 80 reports and is based on the latest data supplied by both large and small railroads. Accordingly, FRA adheres to its original estimate. The next comment pertained to Employee Human Factor Attachment (FRA Form 6180.81). AAR shows average time estimates of 30 minutes and 15 minutes. FRA also shows 15 minutes. AAR and FRA essentially agree. Consequently, FRA retains fifteen minutes as its estimate for this requirement. AAR also shows 301 forms as the average number of responses for this requirement while FRA shows 971 forms. Again, the FRA number includes both large and small railroads, and reflects the latest agency data. Accordingly, FRA retains its 971 forms as its estimate. The next comment pertained to Notice to Railroad Employee Involved in Rail Equipment Accident/Incident Attributed to Employee Human Factor (FRA Form 6180.78) (Part I). AAR shows average time estimates of 60 minutes while FRA shows 30 minutes. Based on the data its has received, FRA believes 30 minutes is more than adequate to complete the required notice. Accordingly, FRA retains its original estimate. Additionally, AAR shows the number of responses as 301 notices while FRA shows 1,013 notices for this requirement. FRA re-checked its latest data and determined that 971 notices is the correct number, representing both large and small railroads. AAR's number is solely derived from one large railroad. Consequently, FRA retains its revised estimate of 971 notices for Part I. The next comment pertained to Part II of Form 6180.78. AAR shows 3 hours and 2.5 hours as the average time estimate while FRA shows 2 hours. On closer inspection, FRA believes 2.5 hours is a more accurate number, and accordingly revises its estimate to use the AAR number. AAR also shows 25 statements as the number of responses for Part II while FRA shows 101 statements. Again, FRA re-checked its data and determined 97 statements is the correct number for this requirement. AAR's number represents one large railroad while FRA's estimate includes both large and small railroads, and is taken from the agency's latest data. Accordingly, FRA retains its revised estimate for this requirement. The next comment pertained to Railroad Consultations in Joint Operations Accidents/Incidents. AAR shows 3 hours and 2.5 hours as the average time estimate while FRA shows 1 hour. Since there are only 10 fields of information exchanged among carriers, FRA believes one hour is more than adequate time to complete the exchange. Accordingly, FRA retains its original estimate of one hour. AAR also shows 10 requests as the number of responses for this requirement while FRA shows 30 requests. Again, FRA's estimate reflects its latest data for all railroads. Accordingly, FRA adheres to its original number of responses. The next comment pertained to Employee Confidential Letter(s). AAR did not submit an average time estimate for this requirement. It also did not submit an average number of responses. Accordingly, FRA retains two hours as the average time estimate, and 30 letters as the average number of responses. The next comment pertained to Railroad Review of Statement. Again, AAR did not submit estimates for the average time estimate or the average number of responses. Accordingly, FRA retains 1.5 hours and 4 hours as the time estimates, and 97 supplements and 25 reports as the average number of responses. The next comment pertained to Batch Control Form (Form FRA 6180.99). Here also AAR did not submit an average time estimate or an average number of responses. Accordingly, FRA retains 10 minutes as the average time estimate, and 96 forms as the average number of responses. The next comment pertained to Initial Rail Equipment Accident/Incident Record (Form FRA 6180.97). AAR shows average time estimates of 6 hours and 4.75 hours while FRA shows 30 minutes for this requirement. Accountable train accidents are accidents with a low dollar damage. Most of the reports involve very minor derailments where no analysis or investigation is required. AAR has almost the same numbers for a serious accident as they do for a minor accident. The time consuming process is damage calculation and determining the accident cause. Neither of these items is difficult or time consuming for a minor derailment. Accordingly, FRA retains 30 minutes as the average time estimate for this requirement. AAR also shows 4,432 forms as the average number of forms while FRA shows 12,095 forms. FRA re-checked its numbers, and determined that 12,575 forms was a more accurate number than its original estimate. Since FRA's estimate represents both large and small railroads rather than one large railroad as representative of the entire industry, FRA retains 12,575 forms as the average number of responses for this requirement. The next two comments deal with Internal Control Plans and Intimidation/Harassment Policies. Although both AAR and FRA show average time estimates, these two requirements were one-time and have already been fulfilled. Consequently, there is no burden for either requirement. The next comment pertained to Subsequent Years: Internal Control Plan. AAR shows estimates of 4 hours while FRA shows an estimate of 14 hours. FRA believes that new railroad in subsequent years will take more than four hours to develop an ICP. FRA believes fourteen hours is a more representative number since it is based on the agency's latest data. Accordingly, FRA retains 14 hours as the average time estimate for this requirement. The next comment pertained to Amendments to Internal Control Plans. AAR shows 4 hours for this requirement while FRA shows 1 hour. AAR showed four hours as the time necessary to develop a complete Internal Control Plan (ICP). FRA does not believe that it takes four hours to amend an ICP. FRA believes one hour is a more accurate estimate. Accordingly, FRA retains one hour as the average time estimate for this requirement. AAR shows time estimates for FRA follow-up, reporting, and other audits of derailment information in the above reports. These are not paperwork requirements under the Paperwork Reduction Act of 1995, and no estimates are provided by FRA. The last comment pertains to Written Request by Employee Not to Post their Injury/Illness. AAR shows average time estimates of 30 minutes and 15 minutes while FRA shows 60 minutes for this requirement. FRA believes that it will take a combined total of one hour for the employee to prepare his/her letter, forward it to the railroad's reporting officer, and have the reporting officer review the letter and make sure the injury/illness in question is not posted. FRA believes its estimate more accurately reflects the true burden. Accordingly, FRA retains 60 minutes as the average time estimate for this requirement.

The second comment received by FRA was from the Bureau of Economic Analysis (BEA) of the Department of Labor. BEA remarked that the forms used in this information collection meet its needs. BEA uses data collected on these forms to prepare estimates of the employee compensation component of gross domestic product and State personal income. BEA strongly endorses this collection of information by FRA.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507(b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore respondents should submit their respective comments to OMB within 30 days of publication to best ensure having their full effect. 5 CFR 1320.12(c); see also 60 FR 44983, Aug. 29, 1995.

The summaries below describe the nature of the information collection requirements (ICRs) and the expected burden. The revised requirements are being submitted for clearance by OMB as required by the PRA.

Title: Accident/Incident Reporting and Recordkeeping.

OMB Control Number: 2130-0500.

Type of Request: Extension of a currently approved collection.

Affected Public: Railroads.

Form(s): FRA F 6180.33; 6180.54; 6180.55/55A; 6180.56; 6180.57; 6180.78/81/97/98.

Abstract: The collection of information is due to the railroad accident reporting regulations set forth in 49 CFR Part 2225 which require railroads to submit monthly reports summarizing collisions, derailments, and certain other accidents/incidents involving damages above a periodically revised dollar threshold, as well as certain injuries to passengers, employees, and other persons on railroad property. Because the reporting requirements and the information needed regarding each category of accident/incident are unique, a different form is used for each category.

Annual Estimated Burden Hours: 58,841 hours.

Addressee: Send comments regarding these information collections to the Office of Information and Regulatory Affairs, Office of Management and Budget, 725 Seventeenth Street, N.W., Washington, D.C., 20503; Attention: FRA Desk Officer.

Comments are invited on the following: Whether the proposed collections of information are necessary for the proper performance of the functions of FRA, including whether the information will have practical utility; the accuracy of FRA's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC on April 26, 2000.
Margaret B. Reid,
Acting Director, Office of Information Technology and Support Systems, Federal Railroad Administration.

[FR Doc. 00-10781 Filed 4-28-00; 8:45 am]

BILLING CODE 4910-06-P